ENVIRONMENTAL PROTECTION AGENCY

[EPA-HQ-ORD-2015-0365; FRL-10018-32-ORD]

Board of Scientific Counselors (BOSC) Air and Energy Subcommittee Meeting—February 2021

AGENCY: Environmental Protection Agency (EPA).

ACTION: Notice of public meeting.

SUMMARY: The Environmental Protection Agency (EPA), Office of Research and Development (ORD), gives notice of a virtual meeting of the Board of Scientific Counselors (BOSC) Air and Energy (A-E) Subcommittee to review science for air quality decisions and next generation methods—wildfire focus.

DATES:

1. The initial meeting will be held over three days via videoconference:

a. Wednesday, February 17, 2021, from 12 p.m. to 5 p.m. (EDT);

b. Thursday, February 18, 2021, from 12 p.m. to 5 p.m. (EDT); and

c. Friday, February 19, 2021, from 12 p.m. to 5 p.m. (EDT).

Attendees must register by February 16, 2021.

2. A BOSC deliberation will be held on March 18, 2021 from 2 p.m. to 5 p.m. (EDT). Attendees must register by March 17, 2021.

3. A final summary teleconference will be held on April 2, 2021 from 2 p.m. to 5 p.m. (EDT). Attendees must register by April 1, 2021.

Meeting times are subject to change. This series of meetings are open to the public. Comments must be received by February 16, 2021, to be considered by the subcommittee. Requests for the draft agenda or making a presentation at the meeting will be accepted until February 16, 2021.

ADDRESSES: Instructions on how to connect to the videoconference will be provided upon registration at https://www.eventbrite.com/e/us-epa-bosc-air-and-energy-subcommittee-meeting-tickets-121242446421.

Submit your comments to Docket ID No. EPA-HQ-ORD-2015-0365 by one of the following methods:

• www.regulations.gov: Follow the online instructions for submitting comments.

Note: Comments submitted to the www.regulations.gov website are anonymous unless identifying information is included in the body of the comment.

• Email: Send comments by electronic mail (email) to: ORD.Docket@epa.gov, Attention Docket ID No. EPA-HQ-ORD-2015-0365.

Note: Comments submitted via email are not anonymous. The sender's email will be included in the body of the comment and placed in the public docket which is made available on the internet.

Instructions: All comments received, including any personal information provided, will be included in the public docket without change and may be made available online at www.regulations.gov. Information claimed to be Confidential Business Information (CBI) or other information whose disclosure is restricted by statute will not be included in the public docket, and should not be submitted through www.regulations.gov or email. For additional information about the EPA's public docket visit the EPA Docket Center homepage at http://www.epa.gov/dockets/.

Public Docket: Publicly available docket materials may be accessed Online at www.regulations.gov.

Copyrighted materials in the docket are only available via hard copy. The telephone number for the ORD Docket Center is (202) 566-1752.

FOR FURTHER INFORMATION CONTACT:

The Designated Federal Officer (DFO), Tom Tracy, via phone/voicemail at: (202) 564-6518; or via email at: tracy.tom@epa.gov.

Any member of the public interested in receiving a draft agenda, attending the meeting, or making a presentation at the meeting should contact Tom Tracy no later than February 16, 2021.

SUPPLEMENTARY INFORMATION: The Board of Scientific Counselors (BOSC) is a federal advisory committee that provides advice and recommendations to EPA's Office of Research and Development on technical and management issues of its research programs. The meeting agenda and materials will be posted to https://www.epa.gov/bosc.

Proposed agenda items for the meeting include, but are not limited to, the following: Science for air quality decisions and next generation methods—wildfire focus.

Information on Services Available: For information on translation services, access, or services for individuals with disabilities, please contact Tom Tracy at (202) 564-6518 or tracy.tom@epa.gov. To request accommodation of a disability, please contact Tom Tracy at least ten days prior to the meeting to give the EPA adequate time to process your request.

(Authority: Pub. L. 92-463, 1, Oct. 6, 1972, 86 Stat. 770)

Mary Ross,
Director, Office of Science Advisor, Policy and Engagement.

[FR Doc. 2021-01207 Filed 1-19-21; 8:45 am]

BILLING CODE 6560-50-P